DEPARTMENT OF JUSTICE

Notice of Lodging of Proposed Stipulation of Settlement and Judgment Under the System Unit Resource Protection Act

On October 17, 2024, the Department of Justice lodged a proposed Stipulation of Settlement and Judgment (“Stipulation”) with the United States District Court for the Eastern District of Washington in the lawsuit entitled United States v. Avista Corporation, Civil Action No. 2:24-cv-00358-JAG.

The United States filed this lawsuit under the System Unit Resource Protection Act and Washington State and federal trespass law. The complaint alleges that defendant Avista Corporation's unauthorized activities to stabilize, move, and replace an unpermitted power pole within the Lake Roosevelt National Recreation Area (the “Park”) in northeastern Washington caused significant injuries to cultural and natural resources at the Park. The complaint seeks recovery of damages and response costs.

Under the Stipulation, Defendant will pay $900,000 to the U.S. Department of the Interior, National Park Service, for response costs and damages, with interest.

On October 22, 2024, the Department of Justice published a notice in the Federal Register opening a public comment period on the Stipulation for a period of thirty (30) days, through November 21, 2024. Due to a technical error in posting the Stipulation on the Department of Justice's website, the Stipulation was inadvertently removed from the website on October 23, 2024. The Stipulation was reposted to the Department of Justice's website on November 18, 2024. By this notice, the Department of Justice is extending the public comment period by an additional thirty (30) days, through December 21, 2024. Comments should be addressed to the Assistant Attorney General, Environment and Natural Resources Division, and should refer to United States v. Avista Corporation, D.J. Ref. No. 90-5-1-1-12423. All comments must be submitted no later December 21, 2024. Comments may be submitted either by email or by mail:

To submit comments: | Send them to:
By email | pubcomment-ees.enrd@usdoj.gov.
By mail | Assistant Attorney General, U.S. DOJ—ENRD, P.O. Box 7611, Washington, DC 20044-7611.

During the public comment period, the Stipulation may be examined and downloaded at this Justice Department website: https://www.justice.gov/enrd/consent-decrees. If you require assistance accessing the Stipulation, you may request assistance by email or by mail to the addresses provided above for submitting comments.

Kathryn C. Macdonald,
Assistant Section Chief, Environmental Enforcement Section, Environment and Natural Resources Division.

[FR Doc. 2024-27632 Filed 11-25-24; 8:45 am]

BILLING CODE 4410-15-P